DEPARTMENT OF THE INTERIOR

Bureau of Land Management

[LLNML0000 L16100000.DQ0000 14XL1109AF]

Notice of Availability of the Proposed Prehistoric Trackways National Monument Resource Management Plan and Final Environmental Impact Statement, New Mexico

AGENCY: Bureau of Land Management, Interior.

ACTION: Notice.

SUMMARY: In accordance with the National Environmental Policy Act of 1969 (NEPA), as amended, and the Federal Land Policy and Management Act of 1976, as amended, the Bureau of Land Management (BLM) has prepared a proposed Resource Management Plan (RMP)/final Environmental Impact Statement (EIS) for the Prehistoric Trackways National Monument and by this notice is announcing its availability.

DATES: BLM planning regulations state that any person who meets the conditions as described in the regulations may protest the BLM's proposed RMP. A person who meets the conditions must file their protest within 30 days of the date that the Environmental Protection Agency publishes its Notice of Availability in the Federal Register.

ADDRESSES: Copies of the proposed RMP/final EIS have been sent to affected Federal, tribal, State, and local government agencies and to other stakeholders. Copies of the proposed RMP/final EIS are available for public inspection at the Las Cruces District Office, 1800 Marquess St., Las Cruces, NM 88005, and the New Mexico State Office, 301 Dinosaur Trail, Santa Fe, NM 87502. Interested persons may also review the proposed RMP/final EIS at: http://www.blm.gov/nm/trackwaysrmp.

All protests must be in writing and mailed to one of the following addresses:

Regular Mail: BLM Director (210); Attention: Protest Coordinator; P.O. Box 71383, Washington, DC 20024-1383.

Overnight Mail: BLM Director (210); Attention: Protest Coordinator; 20 M Street SE., Room 2134LM, Washington, DC 20003.

FOR FURTHER INFORMATION CONTACT: Jennifer Montoya, Planning and Environmental Coordinator, Las Cruces District Office; telephone 575-525-4316; address 1800 Marquess St., Las Cruces, NM 88005; email jamontoy@blm.gov. Persons who use a telecommunications device for the deaf (TDD) may call the Federal Information Relay Service (FIRS) at 1-800-877-8339 to contact Ms. Montoya during normal business hours. The FIRS is available 24 hours a day, 7 days a week, to leave a message or question for Ms. Montoya. You will receive a reply during normal business hours.

SUPPLEMENTARY INFORMATION: The proposed RMP/final EIS analyzes the environmental consequences of four alternatives under consideration by the BLM for managing the Prehistoric Trackways National Monument, which consists of approximately 5,280 acres in southern New Mexico. The RMP will provide a comprehensive management plan for the long-term protection and management of the Prehistoric Trackways National Monument. The plan is needed to prescribe the appropriate uses and management of the Prehistoric Trackways National Monument, consistent with the provisions of its designating legislation (Omnibus Public Lands Management Act of 2009), and would replace the 1993 Mimbres RMP for this specific location. The proposed RMP/final EIS includes decisions for all BLM-managed surface estate and subsurface mineral estate within the National Monument's boundary.

The four alternatives analyzed in detail in the proposed RMP/final EIS are Alternative A (No Action Alternative), which is a continuation of the existing management decisions and the legislation; Alternative B, which emphasizes resource conservation and protection; Alternative C, which strives to balance resource uses with protections; and Alternative D, which allows greater opportunity for resource use and development. Alternative C was selected as the Proposed RMP because it protects and enhances the Prehistoric Trackways National Monument objects, resources, and values, while allowing uses such as scientific research, recreation, and livestock grazing. In Alternative C, the impacts of uses are limited in sensitive areas and management decisions for monitoring and mitigation are included. As required by the legislation, the existing designations of the Wilderness Study Area and Area of Critical Environmental Concern would remain within the Prehistoric Trackways National Monument. These designations overlap about 789 acres of the Prehistoric Trackways National Monument. The designating legislation withdraws the Prehistoric Trackways National Monument from the following, subject to valid existing rights: (1) Entry, appropriation, or disposal under the public land laws; (2) Location, entry, and patent under the mining laws; and (3) Operation of the mineral leasing laws, geothermal leasing laws, and minerals materials laws.

The RMP process began with a Notice of Intent published in the Federal Register on January 5, 2010 (75 FR 431). This announced a 30-day public comment period. During that time, a public meeting was held in Las Cruces in order to introduce the planning process to the public and solicit comments. On September 22, 2010, the BLM held a public workshop to get feedback on preliminary RMP alternatives. A Notice of Availability of the Draft RMP/EIS was published in the Federal Register on July 20, 2012 (77 FR 42758) to announce a 90-day public review and comment period of the draft document. During this period, the BLM held one public open-house meeting in Las Cruces for the purpose of assisting the public in its review and to solicit their comments. The draft RMP/EIS was sent to multiple Federal, tribal, State, and local government agencies and interested parties and was made available for viewing at the Las Cruces District Office, the New Mexico State Office, and on the Internet. During the comment period, the Las Cruces District Office received about 45 comment letters, emails, or comment forms. Each submission was carefully reviewed to identify substantive comments in accordance with regulations on the implementation of NEPA (40 CFR 1503.4). Comments on the draft RMP/EIS received from the public and internal BLM reviews were considered and incorporated as appropriate into the proposed RMP/final EIS. Public comments resulted in the addition of data and clarifying text, but did not significantly change proposed land use plan decisions.

Instructions for filing a protest with the Director of the BLM regarding the proposed plan may be found in the “Dear Reader Letter” of the proposed RMP/final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your address, phone number, email address, or other personal identifying information in your comment, you should be aware that your entire comment—including your personal identifying information—may be made publicly available at any time. While you can ask us in your comment to withhold your personal identifying information from public review, we cannot guarantee that we will be able to do so.

Authority: (40 CFR 1506.6; 40 CFR 1506.10; 43 CFR 1610.2; 43 CFR 1610.5-2)

Sheila Mallory,
Acting, State Director.

[FR Doc. 2014-30169 Filed 12-24-14; 8:45 am]

BILLING CODE 4310-FB-P